DEPARTMENT OF COMMERCE

National Oceanic and Atmospheric Administration

[I.D. 071601D]

Endangered and Threatened Species; Take of Anadromous Fish

AGENCY: National Marine Fisheries Service (NMFS), National Oceanic and Atmospheric Administration (NOAA), Commerce.

ACTION: Receipt of applications for scientific research permits.

SUMMARY: NMFS has received applications for Endangered Species Act (ESA) scientific research permits from the Fish Ecology Division of the Northwest Fisheries Science Center, NMFS at Seattle, WA (NWFSC); the Hecla Mining Company at Challis, ID (HMC); and the Washington Department of Fish and Wildlife at Olympia, WA (WDFW).

DATES: Comments or requests for a public hearing on any of the new applications or the modification request must be received no later than 5 p.m. Pacific daylight time on August 24, 2001

ADDRESSES: Written comments and requests for copies of the permit applications should be sent to Protected Resources Division (PRD), F/NWO3, 525 NE Oregon Street, Suite 500, Portland, OR 97232-2737 (503/230-5400). Comments may also be sent via fax to 503/230-5435. The documents are also available on the Internet at http://www.nwr.noaa.gov/ . Comments will not be accepted if submitted via e-mail or the Internet.

FOR FURTHER INFORMATION CONTACT: Robert Koch, Portland, OR, phone: 503-230-5424, Fax: 503-230-5435, e-mail: robert.koch@noaa.gov.

SUPPLEMENTARY INFORMATION:

Species Covered in this Notice

The following species and evolutionarily significant units (ESUs) are covered in This notice:

Chinook salmon (O. tshawytscha): endangered, naturally produced and artificially propagated, upper Columbia River (UCR) spring; threatened, naturally produced and artificially propagated, SnR spring/summer; threatened SnR fall; threatened lower Columbia River (LCR); threatened upper Willamette River (UWR); threatened, naturally produced and artificially propagated, Puget Sound.

Steelhead (O. mykiss): endangered, naturally produced and artificially propagated, UCR; threatened SnR; threatened middle Columbia River (MCR); threatened UWR.

New Applications Received

NWFSC requests a 5-year permit (1322) for annual takes of the juvenile life stage of 7 of the 10 anadromous fish ESUs identified in this document (all ESUs except endangered UCR spring chinook salmon, endangered UCR steelhead, and threatened Puget Sound chinook salmon) associated with a scientific research project proposed to occur in the lower Columbia River and estuary. The objective of the research is to identify associations between salmon and habitat. The approach will be to (1) determine the relationship between habitat and the presence, use, and benefit to juvenile salmon, with an emphasis on subyearling chinook salmon, and (2) understand the relationships between changes in flow, sediment input, and availability of habitat in the lower Columbia River and estuary. The need to develop effective restoration strategies requires that the benefits of estuarine habitats to juvenile salmon be identified by evaluating habitat-salmon linkages. The long history of wetland loss in the Columbia River estuary coupled with changes in flow patterns suggests that restoration of these habitats may benefit depressed salmon stocks. Information obtained from the research will serve as the basis for developing habitat restoration and preservation plans. NWFSC proposes to sample for the presence and abundance of salmon species in the estuary and lower Columbia River at monthly intervals throughout each annual period. ESA-listed juvenile salmon and steelhead are proposed to be captured with beach seines and trapnets, sampled for biological information, and released. ESA-listed juvenile fish indirect mortalities associated with the research are requested. In addition, NWFSC is also requesting intentional lethal takes of ESA-listed juvenile salmon for stomach content identification and the collection of scales and otoliths.

HMC requests a 5-year permit (1344) for annual takes of juvenile, threatened, naturally produced and artificially propagated, SnR spring/summer chinook salmon and juvenile, threatened, SnR steelhead associated with research designed to monitor the aquatic fish populations in Jordan Creek and the Yankee Fork of the Salmon River in the vicinity of HCM’s Grouse Creek Mine. Grouse Creek Mine is an open pit gold/silver mine operation located adjacent to Jordan Creek, a tributary of the Yankee Fork of the Salmon River. In early 2000, the operations at Grouse Creek Mine were permanently suspended. Annual biological monitoring is proposed to determine the effects of mine operations on the aquatic life in Jordan Creek and the Yankee Fork. The monitoring is required by the U.S. Forest Service and the U.S. Environmental Protection Agency under a National Pollutant Discharge and Elimination System permit and an Administrative Order on Consent. The biomonitoring project will benefit all aquatic species, including chinook salmon and steelhead, in that annual monitoring will detect any adverse impacts to the aquatic species as a result of mining operations. ESA-listed juvenile salmon and steelhead are proposed to be observed/harassed during snorkel surveys. ESA-listed juvenile fish are also proposed to be captured using electrofishing, sampled for biological information, and released. ESA-listed juvenile fish indirect mortalities associated with the research are also requested.

WDFW requests a 5-year permit (1345) for annual takes of both the adult and juvenile life stages of 6 of the 10 anadromous fish ESUs identified in this document (all ESUs except threatened SnR fall chinook salmon, threatened LCR chinook salmon, threatened UWR chinook salmon, and threatened UWR steelhead) associated with two scientific research projects proposed to occur in selected rivers and tributaries throughout the state of Washington. The objective of Project 1 is to conduct annual warmwater fish stock assessment surveys necessary for inland fish management purposes. Surveys of warmwater fish species are usually conducted in the backwater sloughs, oxbow lakes, and ponds associated with major river systems. Boat electrofishing is a critical component of WDFW’s standardized sampling methodology for warmwater fish species. ESA-listed adult and juvenile salmon and steelhead are proposed to be captured using boat electrofishing, sampled for biological information, and released. The objective of Project 2 is to evaluate the fish populations present in gravel pit ponds connected to the Yakima River. Current proposals for increased gravel extraction and the requirement to protect fish listed under the ESA highlight the need for a better understanding of the impacts of floodplain gravel mining. Gravel pit avulsion (being captured by the river) may be detrimental to ESA-listed fish due to increases in suspended fine sediments, increased temperatures, the introduction of exotic fish species from a formerly stocked pond, and the creation of habitat preferred by native and non-native piscine predators. In order to better plan future mining operations in the state and manage existing gravel pit ponds, WDFW proposes to assess the possible impacts of connecting the Yakima River to the gravel pits by comparing the assemblages, densities, stomach fullness, and stomach contents of all species of fish present at sites adjacent to the gravel pit ponds with those at sites away from the ponds. Adult and juvenile, threatened, MCR steelhead are proposed to be observed/harassed during snorkel surveys. In addition, adult and juvenile, threatened, MCR steelhead are proposed to be captured using boat electrofishing or beach seines, sampled for biological information and stomach contents, and released. ESA-listed juvenile salmon and steelhead indirect mortalities associated with both of WDFW’s proposed projects are also requested.

Dated: July 19, 2001.
Phil Williams,
Acting Chief, Endangered Species Division, Office of Protected Resources, National Marine Fisheries Service.

[FR Doc. 01-18573 Filed 7-24-01; 8:45 am]

BILLING CODE 3510-22-S